DEPARTMENT OF COMMERCE

National Oceanic and Atmospheric Administration

RIN 0648-BA89

Identification of Nations Whose Fishing Vessels Are Engaged in Fishing in Waters Beyond Any National Jurisdiction That Target or Incidentally Catch Sharks

AGENCY: National Marine Fisheries Service (NMFS), National Oceanic and Atmospheric Administration (NOAA), Commerce.

ACTION: Notice and request for information.

SUMMARY: NMFS is seeking information regarding nations whose vessels are engaged in fishing in waters beyond any national jurisdiction that target or incidentally catch sharks. Such information will be reviewed for the purposes of the identification of nations pursuant to the High Seas Driftnet Fishing Moratorium Protection Act (Moratorium Protection Act).

DATES: Information should be received on or before August 1, 2011, but will be accepted up to December 1, 2011.

ADDRESSES: Information should be submitted to NMFS Office of International Affairs, Attn.: MSRA Shark Information, 1315 East-West Highway, Silver Spring, MD 20910. E-mail address: SHARK.INFO@noaa.gov or fax (301) 713-9106.

FOR FURTHER INFORMATION CONTACT: NMFS Office of International Affairs, e-mail address: SHARK.INFO@noaa.gov or Cheri McCarty (ph. 301-713-9090).

SUPPLEMENTARY INFORMATION: The Shark Conservation Act of 2010 (S.850) amended the Moratorium Protection Act (16 U.S.C.1826d-k) to require actions be taken by the United States to strengthen shark conservation. Specifically, these amendments to the Moratorium Protection Act require the Secretary of Commerce to identify nations whose fishing vessels are engaged, or have been engaged during the preceding calendar year, in fishing activities or practices in waters beyond any national jurisdiction that target or incidentally catch sharks and the nation has not adopted a regulatory program to provide for the conservation of sharks, including measures to prohibit removal of any of the fins of a shark (including the tail) and discarding the carcass of the shark at sea, that is comparable to that of the United States, taking into account different conditions. The Secretary is required to begin making identifications not later than January 4, 2012.

The Moratorium Protection Act also requires the Secretary of Commerce to certify whether each nation identified has taken the following steps to warrant receipt of a positive certification: Provided documentary evidence of adoption of a regulatory program that is comparable to that of the United States, taking into account different conditions and established a management plan containing requirements that will assist in gathering species-specific data. If a nation does not receive a positive certification by the Secretary of Commerce, it could be subject to sanctions under the High Seas Driftnet Fisheries Enforcement Act (Enforcement Act) (16 U.S.C. 1826a).

In fulfillment of its requirements under the Moratorium Protection Act, NMFS is in the process of collecting and analyzing information on nations whose vessels target or incidentally catch sharks in waters beyond any national jurisdiction in anticipation of making identifications by January 4, 2012. NMFS is soliciting information from the public that could assist in its identification of nations engaged in such activities. Information that may prove useful to NMFS includes:

• Documentation (photographs, etc.) of fishing vessels engaged in targeted or incidental catch of sharks on the high seas;

• Fishing vessel records;

• Trade data supporting evidence that a nation's vessels are engaged in shark catch;

• Reports from off-loading facilities, port-side government officials, enforcement agents, military personnel, port inspectors, transshipment vessel workers and fish importers;

• RFMO catch documents and statistical document programs, as appropriate;

• Nation's domestic regulations for shark conservation and management; and

• Reports from governments, international organizations, or nongovernmental organizations.

NMFS will consider all available information, as appropriate, when making a determination whether or not to identify a particular nation whose fishing vessels are engaged, or have been engaged during the preceding calendar year, in fishing activities or practices in waters beyond any national jurisdiction that target or incidentally catch sharks and the nation has not adopted a regulatory program to provide for the conservation of sharks, including measures to prohibit removal of any of the fins of a shark (including the tail) and discarding the carcass of the shark at sea, that is comparable to that of the United States, taking into account different conditions. NMFS is interested in information on shark fishing activity during calendar year 2011. Information should be as specific as possible to assist NMFS in its review.

NMFS will consider several criteria when determining whether information is appropriate for use in making identifications, including but not limited to:

• Corroboration of information;

• Whether multiple sources have been able to provide information in support of an identification;

• The methodology used to collect the information;

• Specificity of the information provided;

• Susceptibility of the information to falsification and alteration; and

• Credibility of the individuals or organization providing the information.

On January 12, 2011, NMFS published a final rule to implement both the identification and certification procedures for nations whose vessels were engaged in illegal, unreported, or unregulated (IUU) fishing or bycatch of protected living marine resources. NMFS plans to publish a proposed rule to establish the identification and certification procedures for nations whose fishing vessels are engaged in fishing activities or practices in waters beyond any national jurisdiction that target or incidentally catch sharks if the nation has not adopted a regulatory program for the conservation of sharks that is comparable to that of the United States, taking into account different conditions.

Dated: March 21, 2011.
Rebecca Lent,
Director, Office of International Affairs, National Marine Fisheries Service.

[FR Doc. 2011-6980 Filed 3-21-11; 4:15 pm]

BILLING CODE 3510-22-P